DEPARTMENT OF TRANSPORTATION

Saint Lawrence Seaway Development Corporation

33 CFR Part 401

[Docket No. SLSDC-2010-0001]

RIN 2135-AA30

Seaway Regulations and Rules: Periodic Update, Various Categories

AGENCY: Saint Lawrence Seaway Development Corporation, DOT.

ACTION: Final Rule.

SUMMARY: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Seaway Regulations and Rules in various categories. The changes will update the following sections of the Regulations and Rules: Condition of Vessels; Radio Communications; and General. These amendments are necessary to take account of updated procedures and will enhance the safety of transits through the Seaway. Several of the proposed amendments are merely editorial or for clarification of existing requirements.

DATES: The final rule is effective March 9, 2010.

FOR FURTHER INFORMATION CONTACT: Carrie Mann Lavigne, Chief Counsel, Saint Lawrence Seaway Development Corporation, 180 Andrews Street, Massena, New York 13662; 315-64-3200.

SUPPLEMENTARY INFORMATION: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Regulations and Rules in various categories. The changes will update the following sections of the Regulations and Rules: Condition of Vessels; Radio Communications; and General. These updates are necessary to take account of updated procedures which will enhance the safety of transits through the Seaway. Many of these proposed changes are to clarify existing requirements in the regulations. Where new requirements or regulations are being made, an explanation for such a change is provided below.

The joint regulations are effective in Canada on March 15, 2010. For consistency, because these are under international agreement, joint regulations, and to avoid confusion among users of the Seaway, the SLSDC finds that there is good cause to make the U.S. version of the amendments effective upon publication.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.Regulations.gov.

The Notice of Proposed Rulemaking was published in the Federal Register on January 27, 2010 (75 FR 4331). No comments were received on the NPRM; however upon further review with the SLSMC, one proposed rule in the Seaway Navigation section regarding the vessel speed at which to approach a bridge is not included in the final rule.

The SLSDC is amending two sections of the Condition of Vessels portion of the joint Seaway regulations. Under section 401.10, “Mooring lines”, the SLSDC is proposing to permit vessels with synthetic lines to transit the Seaway with a spliced eye of 1.8 m instead of the current 2.4 m. The SLSMC has conducted tests regarding the effectiveness of the smaller spliced eye and has determined that a spliced eye of 1.8 m for synthetic lines is sufficient for safety purposes. In addition, two changes are being made to section 401.12, “Minimum requirements—mooring lines and fairleads”. These amendments would set specific requirements for each mooring line to ensure that safety is maintained through proper use of appropriate strength wire specific to vessel size. These changes are being made based on tests conducted by the SLSMC in conjunction with relevant industry stakeholders.

In the Radio Communications section, two changes are being made . The changes to section 401.61, “Assigned frequencies”, and section 401.63, “Radio procedures”, reflect the requirement that channel 12 is to be used in lieu of channel 13 in the Seaway Sodus sector. This change is based on two years of testing and troubeshooting radio problems on Lake Ontario that determined that channel 12 would provide a more effective communication medium than does channel 13. Corresponding edits have been proposed for Schedule III to reflect the channel change.

Two changes are being made to the “General” section. In section 401.90, “Boarding for inspection”, vessels will be required to provide a safe and approved means of boarding for inspectors. Currently the pigeon holes used by inspectors to board vessels typically fill with ice and snow making access between the tug and barge a safety hazard. In section 401.94, “Keeping copies of documents”, a vessel will be required to keep, in either electronic or paper form, a copy of: the vessel's valid inspection report; the rules and procedures; and, Seaway Notices for the current navigation year. The other changes to the joint regulations are merely editorial or to clarify existing requirements.

Regulatory Evaluation

This regulation involves a foreign affairs function of the United States and therefore Executive Order 12866 does not apply and evaluation under the Department of Transportation's Regulatory Policies and Procedures is not required.

Regulatory Flexibility Act Determination

I certify this regulation will not have a significant economic impact on a substantial number of small entities. The St. Lawrence Seaway Regulations and Rules primarily relate to commercial users of the Seaway, the vast majority of whom are foreign vessel operators. Therefore, any resulting costs will be borne mostly by foreign vessels.

Environmental Impact

This regulation does not require an environmental impact statement under the National Environmental Policy Act (49 U.S.C. 4321, et reg.) because it is not a major federal action significantly affecting the quality of the human environment.

Federalism

The Corporation has analyzed this rule under the principles and criteria in Executive Order 13132, dated August 4, 1999, and has determined that this proposal does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Saint Lawrence Seaway Development Corporation is amending 33 CFR Part 401, Regulations and Rules, as follows:

PART 401—SEAWAY REGULATIONS AND RULES

Subpart A—Regulations

1. The authority citation for subpart A of part 401 continues to read as follows:

Authority: 33 U.S.C. 983(a) and 984(a)(4), as amended; 49 CFR 1.52, unless otherwise noted.

2. In § 401.10 revise paragraph (a)(3) and (b) to read as follows:

§ 401.10 Mooring lines.

(a) * * *

(3) Be fitted with a hand spliced eye or Flemish type mechanical spliced eye of not less than 2.4 m long for wire lines and 1.8 m long spliced eye for approved synthetic lines;

* * * * *

(b) Unless otherwise permitted by an officer, vessels greater than 150 m shall only use wire mooring lines with a breaking strength that complies with the minimum specifications set out in the table to this section shall be used for securing a vessel in lock chambers.

* * * * *

3. In § 401.12 redesignate paragraph (a)(4) as (a)(3)(iii) and revise paragraphs (a)(1) introductory text, (a)(2), (a)(3) introductory text, and (b) introductory text to read as follows:

§ 401.12 Minimum requirements—mooring lines and fairleads.

(a) * * *

(1) Vessels of 100 m or less in overall length shall have at least three mooring lines—wires or synthetic hawsers, two of which shall be independently power operated and one if synthetic may be hand held.

* * * * *

(2) Vessels of more than 100 m but not more than 150 m in overall length shall have three mooring lines—wires or synthetic hawsers, which shall be independently power operated by winches, capstans or windlasses. All lines shall be led through closed chocks or fairleads acceptable to the Manager and the Corporation.

(3) Vessels of more than 150 m in overall length shall have four mooring lines—wires, independently power operated by the main drums of adequate power operated winches as follows:

* * * * *

(b) Unless otherwise permitted by the officer, the following table sets out the requirements for the location of fairleads or closed chocks for vessels of 100 m or more in overall length:

* * * * *

4. Revise § 401.61 to read as follows:

§ 401.61 Assigned frequencies.

The Seaway stations operate on the following assigned VHF frequencies:

156.8 MHz—(channel 16)—Distress and Calling.

156.7 MHz—(channel 14)—Working (Canadian Stations in Sector 1 and the Welland Canal).

156.6 MHz—(channel 12)—Working (U.S. Station in Lake Ontario)

156.6 MHz—(channel 12)—Working (U.S. Stations in Sector 2 of the River).

156.55 MHz—(channel 11)—Working (Canadian Stations in Sector 3, Lake Ontario and Lake Erie).

5. Revise § 401.63 to read as follows:

§ 401.63 Radio Procedures.

Every vessel shall use the channels of communication in each control sector as listed in the table to this section.

Channels of Communication
Station | Control sector number | Sector limits | Call in | Work | Listening watch
Seaway Beauharnois | 1 | C.I.P No. 2 to C.I.P No. 6-7 | Ch. 14 | Ch. 14 | Ch. 14.
Seaway Eisenhower | 2 | C.I.P. No. 6-7 to C.I.P. No. 10-11 | Ch. 12 | Ch. 12 | Ch. 12.
Seaway Iroquois | 3 | C.I.P. No. 10-11 To Crossover Island | Ch. 11 | Ch. 11 | Ch. 11.
Seaway Clayton | 4 | Crossover Island to Cape Vincent | Ch. 13 | Ch. 13 | Ch. 13.
Seaway Sodus | 4 | Cape Vincent to Mid Lake Ontario | Ch. 12 | Ch. 12 | Ch. 16.
Seaway Newcastle | 5 | Mid Lake Ontario To C.I.P. No. 15 | Ch. 11 | Ch. 11 | Ch. 16.
Seaway Welland | 6 | C.I.P. No. 15 to C.I.P. No. 16 | Ch. 14 | Ch. 14 | Ch. 14.
Seaway Long Point | 7 | C.I.P. No. 16 to Long Point | Ch. 11 | Ch. 11 | Ch. 16.

6. In § 401.90, add a new paragraph (d) to read as follows:

§ 401.90 Boarding for inspections.

* * * * *

(d) Vessels shall provide a safe and approved means of boarding. Pigeon holes are not accepted as a means of boarding and an alternate safe means of access shall be provided.

7. In § 401.94, revise paragraph (a) to read as follows:

§ 401.94 Keeping copies of documents.

(a) A copy of these Regulations (subpart A of part 401), a copy of the vessel's valid Vessel Inspection Report and the Seaway Notices for the current navigation year shall be kept on board every vessel in transit. For the purposes of this section, a copy may be kept in either paper or electronic format so long as it can be accessed in the wheelhouse.

* * * * *

8. In Schedule III to Subpart A—Calling-in table, revise sections numbered (18), (35), and (36) to read as follows:

Schedule III to Subpart A of Part 401—Calling-In Table
C.I.P. and checkpoint | Station to call | Message content
* * * * * * *
18. Sodus Point | Seaway Sodus, Channel 12 | 1. Name of Vessel. 2. Location. 3. ETA Mid-Lake Ontario.
* * * * * * *
35. Mid-Lake Ontario-Entering Sector 4 | Seaway Sodus, Channel 12 | 1. Name of Vessel.
| 2. Location.
36. Sodus Point | Seaway Sodus, Channel 12 | 1. Name of Vessel. 2. Location. 3. Updated ETA Cape Vincent or Lake Ontario Port. 4. Confirm River Pilot Requirement. 5. Pilot requirement—Snell Lock and/or Upper Beauharnois Lock. (inland vessels only).
* * * * * * *

* * * * *

Issued at Washington, DC, on March 3, 2010.
Saint Lawrence Seaway Development Corporation.
Collister Johnson, Jr.,
Administrator.

[FR Doc. 2010-4898 Filed 3-8-10; 8:45 am]

BILLING CODE 4910-61-P